DEPARTMENT OF COMMERCE

National Oceanic and Atmospheric Administration

[RTID 0648-XB118]

Adjustment of Fees for Seafood Inspection Services

AGENCY: National Marine Fisheries Service (NMFS), National Oceanic and Atmospheric Administration (NOAA), Commerce.

ACTION: Notice of a revised fee schedule for seafood inspection services.

SUMMARY: The NMFS Seafood Inspection Program is notifying program participants of a revised fee schedule.

DATES: The revised fee schedule applies to services rendered as of June 1, 2021, until notified otherwise.

FOR FURTHER INFORMATION CONTACT: Steven Wilson, Office of International Affairs and Seafood Inspection, 301-427-8350 or at steven.wilson@noaa.gov.

SUPPLEMENTARY INFORMATION: The National Marine Fisheries Service (NMFS) operates a voluntary fee-for-service seafood inspection program (Program) under the authorities of the Agricultural Marketing Act of 1946, as amended, the Fish and Wildlife Act of 1956, and the Reorganization Plan No. 4 of 1970. The regulations implementing the Program are contained in 50 CFR part 260. The program offers inspection grading and certification services, including the use of official quality grade marks which indicate that specific products have been federally inspected. Those wishing to participate in the program must request the services and submit specific compliance information. In July 1992, NMFS announced new inspection services, which were fully based on guidelines recommended by the National Academy of Sciences, known as Hazard Analysis Critical Control Point (HACCP).

Under the implementing regulations for the Program, fees are reviewed annually to ascertain that the hourly fees charged are adequate to recover the costs of the services rendered. Any necessary adjustments to fees are made in accordance with the requirements of 50 CFR 260.81 and notice is provided to program participants. This Federal Register notice serves to inform program participants of an adjusted fee schedule, effective June 1, 2021.

The Program will increase its fees as outlined in this notice, which will apply until notified otherwise. Fees will be charged to contract and non-contract customers requesting services as listed below. The cost of other applicable services rendered will be recovered through fee collection using the base rate of $143 per hour.

Revised Fees and Charges for the USDC Seafood Inspection Program

Effective June 1, 2021, per hour fees and charges for fishery products inspection services will be as follows, which represent an increase of 10% from prior levels and will apply until notified otherwise.

Contract Rates

Regular time: Services provided during any 8-hour shift.

Overtime: Services provided outside the inspector's normal work schedule.

In addition to any hourly service charge, a night differential fee equal to 10 percent of the employee's hourly salary will be charged for each hour of service provided after 6 p.m. and before 6 a.m. A guarantee of payment is required for all contracts equal to 3 months of service or $10,000, whichever is greater.

Non-Contract Rates

Regular time: Services provided within the inspector's normal work schedule, Monday through Friday.

Overtime: Services provided outside the inspector's normal work schedule.

Any services under contract in excess of the contracted hours will be charged at the non-contract rate.

Contract Rates

Non-HACCP Contracts

Regular Time: $143.00.

Overtime: $215.00.

Sunday & Holidays: $286.00.

HACCP/QMP Contracts

HACCP Regular: $308.00.

HACCP Overtime: $462.00.

HACCP Sunday & Holidays: $616.00.

All Non-Contract Work Rates

Regular Time: $215.00.

Overtime: $323.00.

Sunday & Holidays: $430.00.

Certificates

All certificate requests, whether or not a product inspection was conducted, will be billed at a set flat rate of $99 per request.

Additional information about, and applications for, Program services and fees may be obtained from NMFS (see FOR FURTHER INFORMATION CONTACT).

Dated: May 19, 2021.
Alexa Cole,
Director, Office of International Affairs and Seafood Inspection, National Marine Fisheries Service.

[FR Doc. 2021-10891 Filed 5-21-21; 8:45 am]

BILLING CODE 3510-22-P